DEPARTMENT OF STATE

[Public Notice 3759]

Bureau of Educational and Cultural Affairs Request for Grant Proposals: School Connectivity Project for Southeast Europe

SUMMARY: The Youth Programs Division, Office of Citizen Exchanges, of the Bureau of Educational and Cultural Affairs announces an open competition for the School Connectivity Project for Southeast Europe. Public and private non-profit organizations meeting the provisions described in IRS regulation 26 CFR 1.501(c) may submit proposals to expand the educational opportunities available to secondary school students in Southeast Europe by providing access to the Internet and training them in its use for the purpose of generating a cross-border dialogue among youth in Southeast Europe and the United States. The Southeast European countries involved will be Albania, Bosnia-Herzegovina, Bulgaria, Croatia, Macedonia, and Romania. Serbia, Montenegro, and Kosovo may be added at a later date, pending available funding. The initial amount of the award will be $915,000.

Program Information

Overview

The School Connectivity Project for Southeast Europe will promote e-education in this region under the framework of the electronic Southeast Europe (e-SEE) Stability Pact initiative. This initiative aims to develop the digital economy in SEE and focus on creating an enabling Information Technology (IT) environment, promoting greater transparency among governments and fostering the use of IT in education. The project has also been designed to respond to the important need to introduce the youth of this region to a broad range of ideas about civil society while enhancing the use of IT. Secondary school students and teachers need to focus on areas that promote reconciliation and mutual understanding. The Internet can provide a wealth of information about democratic societies and a vital forum for the exchange of views within the region and with students and teachers in the United States. Through this program, secondary schools will be able to incorporate cross-border discussions on several key themes into their curricular offerings and to improve general education with Internet resources and access to information under the guidance of specially trained teachers.

The goals of this program are:

(1) To enhance the use of the Internet in secondary schools while promoting inter-ethnic dialogue among schools in different countries of Southeast Europe through projects exploring a common theme;

(2) To engage American and Southeast European schools in multi-partite linkages to expand the dialogue, promote mutual understanding, and benefit from the expertise of others;

(3) To support youth in their communications with each other and to facilitate their joint project work; and

(4) To generate personal and institutional ties among students, educators, and their schools across borders.

The main components of this program are as follows:

• Recruiting and selecting secondary schools across Southeast Europe (SEE) and in the United States in a competitive, transparent process. Schools without Internet connections and those that are outside the capital cities shall be given priority.

• Selecting U.S. schools for participation in international dialogue.

• Providing access to the Internet to the SEE schools, including making sites suitable for a computer center, installing hardware and cabling, and ensuring connectivity.

• Providing training for faculty in the selected schools on the use of the Internet for research and discussion and on the development of projects on common themes. These faculty members will in turn provide training to teachers and students in their schools.

• Matching students and teachers at SEE with their counterparts within the region, with U.S. schools, and possibly schools from other Western countries.

• Facilitating joint telecurriculum projects among the students on the themes of shared history and culture. Project staff would help teachers and youth select topics, facilitate action planning and evaluative processes for their projects, provide guidance, help them hone research skills, and assist with the development of a final product for widespread dissemination.

• Setting up and maintaining an on-line vehicle for disseminating information and encouraging interaction with the administrator.

• Providing regional seminars for participating youth. Seminars will allow for face-to-face discussion of the project content, will enable them to take a more active role in designing on-line projects for their schools, will further their training in the use of the Internet, and will train teens on peer teaching techniques.

Guidelines

This grant should begin on or about December 1, 2001, subject to availability of funds. The grant period should be 24 months. A general timetable is outlined in the Project Objectives, Goals, and Implementation (POGI) document of this solicitation.

The number of schools that can be included in this project will be depend on the technological capacity of the schools selected through the open competition. Some schools may have quite a few computers available for student use, many with Internet access. Other schools may have few, if any, computers and what they have may need upgrading. Other international donor programs in Southeast Europe have equipped some schools with computers and Internet access; those schools are welcome to participate in the training and telecurriculum projects of this program. This variation in technological capability will affect not only the connectivity phase of the project, but also the on-line discussion and project phase, as faculty and students will vary widely in their technological expertise. Applicants should propose carefully considered plans for accommodating these differences, in both their proposal narratives and their budgets. Upon request, the Bureau will provide prospective applicants with a May 2001 assessment of telecommunications in each of the participating Southeast European countries.

The grant recipient organization will need to have the capacity to work in countries throughout Southeast Europe through its own network of offices, through partnering organizations or institutions, or through a subgrant to another organization. The Bureau welcomes proposals that present a plan for partnering or for subgrants, though the party responsible for coordination, oversight, and accountability must be clear.

The award will be subject to the availability of FY-2001 SEED funding. The Bureau reserves the right to reduce, revise, or increase proposal budgets in accordance with the needs of the program and availability of funds. Please refer to Solicitation Package for further information.

Budget Guidelines

The Bureau expects to provide an initial assistance award of $915,000 to one organization to support the program and administrative costs required to implement this program. Organizations with less than four years of experience in conducting international exchange programs are not eligible for this competition.

Applicants must submit a comprehensive budget for the entire program. There must be a summary budget as well as breakdowns reflecting both administrative and program budgets.

Applicants should provide separate sub-budgets for each program component, phase, location, or activity to provide clarification. Administrative costs, including indirect rates, should be kept to a minimum and cost-shared as possible. The Bureau encourages applicants to provide maximum levels of cost-sharing and funding from private sources in support of its programs.

Please refer to the Solicitation Package for complete budget guidelines and formatting instructions.

Announcement Title and Number: All correspondence with the Bureau concerning this RFGP should reference the above title and number ECA/PE/C/PY-02-19.

FOR FURTHER INFORMATION CONTACT: The Youth Programs Division, ECA/PE/C/PY, Room 568, U.S. Department of State, 301 4th Street, SW., Washington, DC 20547, telephone (202) 619-6299; fax (202) 619-5311; e-mail address: clantz@pd.state.gov to request a Solicitation Package. The Solicitation Package contains detailed award criteria, required application forms, specific budget instructions, and standard guidelines for proposal preparation. Please specify Bureau Program Officer Carolyn Lantz on all other inquiries and correspondence.

Please read the complete Federal Register announcement before sending inquiries or submitting proposals. Once the RFGP deadline has passed, Bureau staff may not discuss this competition with applicants until the proposal review process has been completed.

To Download A Solicitation Package Via Internet: The entire Solicitation Package may be downloaded from the Bureau's website at http://exchanges.state.gov/education/RFGPs. Please read all information before downloading.

Deadline for Proposals

All proposal copies must be received at the Bureau of Educational and Cultural Affairs by 5 p.m., Washington, DC time, on Wednesday, October 31, 2001. Faxed documents will not be accepted at any time. Documents postmarked the due date but received on a later date will not be accepted. Each applicant must ensure that the proposals are received by the above deadline.

Applicants must follow all instructions in the Solicitation Package. The original and seven copies of the application should be sent to:

U.S. Department of State SA-44 Bureau of Educational and Cultural Affairs, Ref.: ECA/PE/C/PY-02-19, Program Management, ECA-IIP/EX/PM, Room 534, 301 4th Street, SW., Washington, DC 20547.

Applicants must also submit the “Executive Summary” and “Proposal Narrative” sections of the proposal on a 3.5” diskette, formatted for DOS. These documents must be provided in ASCII text (DOS) format with a maximum line length of 65 characters. Applicants may also include a version in Microsoft Word. The Bureau will transmit these files electronically to the Public Affairs section at the U.S. Embassy for its review, with the goal of reducing the time it takes to get embassy comments for the Bureau's grants review process.

Diversity, Freedom and Democracy Guidelines

Pursuant to the Bureau's authorizing legislation, programs must maintain a non-political character and should be balanced and representative of the diversity of American political, social, and cultural life. “Diversity” should be interpreted in the broadest sense and encompass differences including, but not limited to ethnicity, race, gender, religion, geographic location, socio-economic status, and physical challenges. Applicants are strongly encouraged to adhere to the advancement of this principle both in program administration and in program content. Please refer to the review criteria under the ‘Support for Diversity’ section for specific suggestions on incorporating diversity into the total proposal. Public Law 104-319 provides that “in carrying out programs of educational and cultural exchange in countries whose people do not fully enjoy freedom and democracy,” the Bureau “shall take appropriate steps to provide opportunities for participation in such programs to human rights and democracy leaders of such countries.” Public Law 106-113 requires that the governments of the countries described above do not have inappropriate influence in the selection process. Proposals should reflect advancement of these goals in their program contents, to the full extent deemed feasible.

Review Process

The Bureau will acknowledge receipt of all proposals and will review them for technical eligibility. Proposals will be deemed ineligible if they do not fully adhere to the guidelines stated herein and in the Solicitation Package. All eligible proposals will be reviewed by the program office, as well as the Public Diplomacy section overseas, where appropriate. Eligible proposals will be subject to compliance with Federal and Bureau regulations and guidelines and forwarded to Bureau grant panels for advisory review. Proposals may also be reviewed by the Office of the Legal Adviser or by other Department elements. Final funding decisions are at the discretion of the Department of State's Acting Assistant Secretary for Educational and Cultural Affairs. Final technical authority for assistance awards resides with the Bureau's Grants Officer.

Authority

Overall grant making authority for this program is contained in the Mutual Educational and Cultural Exchange Act of 1961, Public Law 87-256, as amended, also known as the Fulbright-Hays Act. The purpose of the Act is “to enable the Government of the United States to increase mutual understanding between the people of the United States and the people of other countries * * * to strengthen the ties which unite us with other nations by demonstrating the educational and cultural interests, developments, and achievements of the people of the United States and other nations * * * and thus to assist in the development of friendly, sympathetic and peaceful relations between the United States and the other countries of the world.” The funding authority for the program above is provided through legislation. The funding authority for the program is provided through Support for East European Democracy (SEED) legislation.

Notice

The terms and conditions published in this RFGP are binding and may not be modified by any Bureau representative. Explanatory information provided by the Bureau that contradicts published language will not be binding. Issuance of the RFGP does not constitute an award commitment on the part of the Government. The Bureau reserves the right to reduce, revise, or increase proposal budgets in accordance with the needs of the program and the availability of funds. Awards made will be subject to periodic reporting and evaluation requirements.

Notification

Final awards cannot be made until funds have been appropriated by Congress, allocated and committed through internal Bureau procedures.

Dated: August 22, 2001.
Helena Kane Finn,
Acting Assistant Secretary for Educational and Cultural Affairs, Department of State.

[FR Doc. 01-21799 Filed 8-29-01; 8:45 am]

BILLING CODE 4710-05-P